DEPARTMENT OF TRANSPORTATION

Federal Aviation Administration

14 CFR Part 39

[Docket No. 2002-CE-13-AD; Amendment 39-12888; AD 2002-19-08]

RIN 2120-AA64

Airworthiness Directives; Vulcanair S.p.A. P 68 Series Airplanes

AGENCY: Federal Aviation Administration, DOT.

ACTION: Final rule.

SUMMARY: This amendment adopts a new airworthiness directive (AD) that applies to certain Vulcanair S.p.A. (Vulcanair) P 68 series airplanes. This AD requires you to inspect the flight and engine control systems to ensure that there is correct connecting bolt and linkage installation, no interference, and correct installation of certain components. This AD also requires you to make any necessary adjustments and modify and install the split link and full travel limit assembly. This AD is the result of mandatory continuing airworthiness information (MCAI) issued by the airworthiness authority for Italy. The actions specified by this AD are intended to prevent failure of the primary flight control system caused by certain configurations. Such failure could lead to loss of airplane flight control.

DATES: This AD becomes effective on November 8, 2002.

The Director of the Federal Register approved the incorporation by reference of certain publications listed in the regulations as of November 8, 2002.

ADDRESSES: You may get the service information referenced in this AD from Vulcanair S.p.A., Via G. Pascoli 7, 80026 Casoria (Naples) Italy, telephone: +39.081.5918111; facsimile: +39.081.5918172. You may view this information at the Federal Aviation Administration (FAA), Central Region, Office of the Regional Counsel, Attention: Rules Docket No. 2002-CE-13-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Ente Nazionale per l'Aviazione Civile (ENAC), which is the airworthiness authority for Italy, recently notified FAA that an unsafe condition may exist on certain Vulcanair Models P 68, P 68B, P 68C, P 68C-TC, P 68 “OBSERVER”, AP68TP300 “SPARTACUS”, P68TC “OBSERVER”, AP68TP 600 “VIATOR”, and P68 “OBSERVER 2” airplanes. The ENAC reports several instances of incorrectly installed bolts, missing nuts, and the presence of interference between the forward control lever assembly and the airframe.

What Is the Potential Impact if FAA Took No Action?

If not detected and corrected, these conditions could result in failure of the primary flight controls. Such failure could lead to loss of airplane flight control.

Has FAA Taken Any Action to This Point?

We issued a proposal to amend part 39 of the Federal Aviation Regulations (14 CFR part 39) to include an AD that would apply to certain Vulcanair P 68 series airplanes. This proposal was published in the Federal Register as a notice of proposed rulemaking (NPRM) on July 15, 2002 (67 FR 46427). The NPRM proposed to require you to:

—Inspect for interference between the control column interconnection chain and the engine control pedestal assembly when the flight controls are in the maximum nose-down position;

—Inspect to ensure that the split link is correctly installed in the chain and that the lock-wire is present and undamaged;

—Make any necessary adjustments;

—Modify and install the split link and full travel limit assembly;

—Inspect all control cable and control rod connecting bolts and linkages for proper installation;

—Inspect for interference between the flight control components and the airframe installations;

—Make any necessary adjustments; and

—Inspect for the correct installation of the part number AN24-18A bolt that connects the forward control cable rod to the control column and reinstalling if necessary.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 58 airplanes in the U.S. registry. The actions specified in Vulcanair P68 Series Service Bulletin No. 110 affect 15 U.S.-registered airplanes. The actions specified in Vulcanair P68 Series Service Bulletin No. 111, Rev. 1, affect 58 U.S.-registered airplanes.

What Is the Cost Impact of This AD on Owners/Operators of the Affected Airplanes?

We estimate the following costs to accomplish the inspections and modifications of Vulcanair P68 Series Service Bulletin No. 110:

Labor cost | Parts cost | Total cost per airplane | Total cost on U.S. operators
7 workhours × $60 per hour = $420 | $150 | $570 | $8,550

We estimate the following costs to accomplish the inspections of Vulcanair P68 Series Service Bulletin No. 111, Rev. 1:

Labor cost | Parts cost | Total cost per airplane | Total cost on U.S. operators
4 workhours × $60 per hour = $240 | None | $240 | $13,920

The FAA has no method of determining the number of necessary adjustments each owner/operator will incur if connecting bolts, linkage, etc. were found incorrectly installed. We estimate the cost to be minor.

Compliance Time of This AD

What Will Be the Compliance Time of This AD?

The compliance time of this AD is “within the next 30 days after the effective date of the AD.”

Why Is the Compliance Time Presented in Calendar Time Instead of Hours Time-in-Service (TIS)?

The compliance of this AD is presented in calendar time instead of hours TIS because these missing or incorrectly installed parts is due to a lack of quality control at the factory. The problem has the same chance of existing on an airplane with 50 hours TIS as it would for an airplane with 1,000 hours TIS. Therefore, we believe that 30 days will:

—Ensure that the unsafe condition does not go undetected for a long period of time on the affected airplanes; and

—Not inadvertently ground any of the affected airplanes.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-19-08 Vulcanair S.P.A.: Amendment 39-12888; Docket No. 2002-CE-13-AD.

(a) What airplanes are affected by this AD? This AD affects the following airplane models and serial numbers that are certificated in any category:

(1) Group 1 Airplanes: Model P 68 “OBSERVER 2”, serial numbers 401 through 411.

(2) Group 2 Airplanes: Model P 68 “OBSERVER 2”, serial numbers 412 and 413.

(3) Group 3 Airplanes: Model P 68C, serial number 402.

(4) Group 4 Airplanes:

Model | Serial Nos.
P 68 “OBSERVER” | All serial numbers through 411.
P 68 “OBSERVER 2” | All serial numbers through 400.
P68TC “OBSERVER” | All serial numbers through 411.

Group 5 Airplanes:

Model | Serial Numbers
AP68TP300 “SPARTACUS” | All serial numbers through 413.
P 68 | All serial numbers through 413.
P 68 “OBSERVER” | 412 and 413.
P 68 B | All serial numbers through 413.
P 68C | All serial numbers through 401 and 403 through 413.
P 68C-TC | All serial numbers through 413.
P68TC “OBSERVER” | 412 and 413.
P68TP 600 “VIATOR” | All serial numbers through 413.

(b) Who must comply with this AD? Anyone who wishes to operate any of the airplanes identified in paragraphs (a) (1) through (a)(5) of this AD must comply with this AD.

(c) What problem does this AD address? The actions specified by this AD are intended to prevent failure of the primary flight control system caused by certain configurations. Such failure could lead to loss of airplane flight control.

(d) What actions must I accomplish to address this problem? To address this problem, you must accomplish the following:

Actions | Compliance | Airplane groups affected | Procedures
(1) Inspect the connecting bolts in the stabilator, rudder, aileron, and flap controls to verify the correct installation and inspect the forward control lever for interference with the airframe (i) If interference or any incorrect installations are found during the inspections, obtain a repair scheme from the manufacturer through the FAA at the address specified in paragraph (f) of this AD (ii) Incorporate this repair scheme | Within the next 30 days after November 8, 2002 (the effective date of this AD). Perform necessary repairs prior to further flight after the inspection in which the interference or any incorrect installation is found | Group 1, Group 2, and Group 3 | Inspect in accordance with paragraph 2. WORK PROCEDURE, 2.1 PART A, of Vulcanair P68 Series Service Bulletin No. 111 Rev. 1, dated February 20, 2002. Repair in accordance with the repair scheme obtained from Vulcanair S.p.A., Via G. Pascoli 7, 80026 Casoria (Naples) Italy. Obtain this repair scheme through the FAA at the address specified in paragraph (f) of this AD
(2) Accomplish the following inspections: (i) Inspect to ensure that there is no interference between the control column interconnection chain and engine control pedestal assembly when the flight controls are in the maximum nose down position. Correct any interference as specified in the service information or obtain a repair scheme from the manufacturer through FAA at the address specified in paragraph (f) of this AD, as applicable | Inspect within the next 30 days after November 8, 2002 (the effective date of this AD). Make any necessary corrections or repairs prior to further flight after the inspection where the problem is found | Group 1 and Group 4 | In accordance with the WORK PROCEDURE section of Vulcanair P68 Series Service Bulletin No. 110, dated March 19, 2002. Repair in accordance with the repair scheme obtained from Vulcanair S.p.A., Via G. Pascoli 7, 80026 Casoria (Naples) Italy. Obtain this repair scheme through the FAA at the address specified in paragraph (f) of this AD.
(ii) Inspect to ensure that the split link (part number NOR7.059-1) is correctly installed in the chain and that the lock-wire is present, undamaged, and installed correctly. Make any necessary corrections.
(3) Install and modify the following: (i) Split Link, part number NOR7.059-1. (ii) Full Travel Limit Assembly, part number 5.3077-1/-2. | Within the next 30 days after November 8, 2002 (the effective date of this AD) | Group 1 and Group 4 | In accordance with the WORK PROCEDURE section of Vulcanair P68 Series Service Bulletin No. 110, dated March 19, 2002.
(4) Inspect bolt part number AN24-18A to verify the correct installation and inspect for the existence of a part number MS21083N4 nut. Correctly install an incorrectly installed bolt and, if missing, install the nut | Within the next 30 days after November 8, 2002 (the effective date of this AD). Install prior to further flight after the inspection where problems are found | Group 1, Group 2, Group 3, Group 4, and Group 5 | In accordance with the WORK PROCEDURE section of Vulcanair P68 Series Service Bulletin No. 111 Rev. 1, dated February 20, 2002.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

Note 2: The FAA recommends that owners/operators report results of all inspections required in paragraphs (d)(1), (d)(2)(i), (d)(2)(ii), and (d)(4) of this AD to the manufacturer as stated in the service bulletins.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference? Actions required by this AD must be done in accordance with Vulcanair P68 Series Service Bulletin No. 110, dated March 19, 2002, and Vulcanair P68 Series Service Bulletin No. 111 Rev. 1, dated February 20, 2002. The Director of the Federal Register approved this incorporation by reference under 5 U.S.C. 552(a) and 1 CFR part 51. You may get copies from Vulcanair S.p.A., Via G. Pascoli 7, 80026 Casoria, Naples, Italy. You may view copies at the FAA, Central Region, Office of the Regional Counsel, 901 Locust, Room 506, Kansas City, Missouri, or at the Office of the Federal Register, 800 North Capitol Street, NW., suite 700, Washington, DC.

Note 3: The subject of this AD is addressed in Italian AD Number 2002-212, dated March 28, 2002; and Italian AD Number 2002-155, dated February 22, 2002.

(i) When does this amendment become effective? This amendment becomes effective on November 8, 2002.

Issued in Kansas City, Missouri, on September 17, 2002.
Michael Gallagher,
Manager, Small Airplane Directorate, Aircraft Certification Service.

[FR Doc. 02-24179 Filed 9-24-02; 8:45 am]

BILLING CODE 4910-13-P